DEPARTMENT OF ENERGY

Federal Energy Regulatory Commission

Combined Notice of Filings

Take notice that the Commission has received the following Natural Gas Pipeline Rate and Refund Report filings:

Filings Instituting Proceedings

Docket Numbers: RP15-993-000.

Applicants: PGPipeline LLC.

Description: Compliance filing per 154.203: Order No. 801 Compliance Filing to be effective 7/1/2015.

Filed Date: 5/19/15.

Accession Number: 20150519-5106.

Comments Due: 5 p.m. ET 6/1/15.

Docket Numbers: RP15-994-000.

Applicants: Gulf South Pipeline Company, LP.

Description: § 4(d) rate filing per 154.204: Cap Rel Neg Rate Agmt (Oglethorpe 8482 to Sequent 44523) to be effective 5/1/2015.

Filed Date: 5/19/15.

Accession Number: 20150519-5107.

Comments Due: 5 p.m. ET 6/1/15.

Docket Numbers: RP15-995-000.

Applicants: Equitrans, L.P.

Description: § 4(d) rate filing per 154.204: Neogotiated Capacity Release Agreement—5/19/2015 to be effective 5/19/2015.

Filed Date: 5/19/15.

Accession Number: 20150519-5113.

Comments Due: 5 p.m. ET 6/1/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-210-001.

Applicants: Tennessee Gas Pipeline Company, L.L.C.

Description: Compliance filing per 154.203: Cashout Report and Refund Plan 2013-2014—Revised Appendix C.

Filed Date: 5/19/15.

Accession Number: 20150519-5116.

Comments Due: 5 p.m. ET 6/1/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2015.
Nathaniel J. Davis, Sr.,
Deputy Secretary.

[FR Doc. 2015-13074 Filed 5-29-15; 8:45 am]

BILLING CODE 6717-01-P